DEPARTMENT OF THE INTERIOR

National Park Service

Notice of Inventory Completion: University of Oregon Museum of Natural and Cultural History/Oregon State Museum of Anthropology, Eugene, OR

AGENCY: National Park Service, Interior.

ACTION: Notice.

Notice is here given in accordance with the Native American Graves Protection and Repatriation Act (NAGPRA), 25 U.S.C. 3003, of the completion of an inventory of human remains and an associated funerary object in the possession of the University of Oregon Museum of Natural and Cultural History/Oregon State Museum of Anthropology, Eugene, OR. The human remains and associated funerary object were removed from the Columbia River area.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by the University of Oregon Museum of Natural and Cultural History/Oregon State Museum of Anthropology professional staff in consultation with representatives of the Confederated Tribes of the Chehalis Reservation, Washington; Confederated Tribes of the Colville Reservation, Washington; Confederated Tribes of the Grand Ronde Community of Oregon; Confederated Tribes of the Umatilla Indian Reservation, Oregon; Confederated Tribes of the Warm Springs Reservation of Oregon; Confederated Tribes and Bands of the Yakama Nation, Washington; Kalispel Indian Community of the Kalispel Reservation, Washington; Nez Perce Tribe, Idaho; Shoalwater Bay Tribe of the Shoalwater Bay Indian Reservation, Washington; and Spokane Tribe of the Spokane Reservation, Washington.

At an unknown date, human remains representing a minimum of four individuals were removed from the Columbia River area. In 1941, the human remains were donated to the museum by a private party. No known individuals were identified. The one associated funerary object is a strand of cordage.

Skeletal evidence from two individuals indicates they are Native American. The remaining human remains are too fragmentary for identification, but are reasonably believed to be Native American based upon their association with the other individuals. Museum documentation is limited, and records only the general provenience, “Columbia River area.” Given the origin of most human remains curated by the University of Oregon Museum of Natural and Cultural History/Oregon State Museum of Anthropology, it is likely that these are from the Columbia River in or near the state of Oregon, but this cannot be ascertained.

The Columbia River area has been occupied by many tribes. The tribes traveled to gather resources and to trade. The descendants of the tribes from the Columbia River area are members of the Confederated Tribes of the Chehalis Reservation, Washington; Confederated Tribes of the Colville Reservation, Washington; Confederated Tribes of the Grand Ronde Community of Oregon; Confederated Tribes of the Umatilla Indian Reservation, Oregon; Confederated Tribes of the Warm Springs Reservation of Oregon; Confederated Tribes and Bands of the Yakama Nation, Washington; Kalispel Indian Community of the Kalispel Reservation, Washington; Nez Perce Tribe, Idaho; Shoalwater Bay Tribe of the Shoalwater Bay Indian Reservation, Washington; and Spokane Tribe of the Spokane Reservation, Washington.

Officials of the University of Oregon Museum of Natural and Cultural History/Oregon State Museum of Anthropology have determined that, pursuant to 25 U.S.C. 3001 (9-10), the human remains described above represent the physical remains of four individuals of Native American ancestry. Officials of the University of Oregon Museum of Natural and Cultural History/Oregon State Museum of Anthropology have also determined that, pursuant to 25 U.S.C. 3001 (3)(A), the one object described above is reasonably believed to have been placed with or near individual human remains at the time of death or later as part of the death rite or ceremony. Lastly, officials of the University of Oregon of Natural and Cultural History/Oregon State Museum of Anthropology have also determined that, pursuant to 25 U.S.C. 3001 (2), there is a relationship of shared group identity that can be reasonably traced between the Native American human remains and associated funerary object and the Confederated Tribes of the Chehalis Reservation, Washington; Confederated Tribes of the Colville Reservation, Washington; Confederated Tribes of the Grand Ronde Community of Oregon; Confederated Tribes of the Umatilla Indian Reservation, Oregon; Confederated Tribes of the Warm Springs Reservation of Oregon; Confederated Tribes and Bands of the Yakama Nation, Washington; Kalispel Indian Community of the Kalispel Reservation, Washington; Nez Perce Tribe, Idaho; Shoalwater Bay Tribe of the Shoalwater Bay Indian Reservation, Washington; and/or Spokane Tribe of the Spokane Reservation, Washington.

Representatives of any other Indian tribe that believes itself to be culturally affiliated with the human remains and associated funerary object should contact Dr. Pamela Endzweig, Director of Collections, University of Oregon Museum of Natural and Cultural History/Oregon State Museum of Anthropology, 1224 University of Oregon, Eugene, OR 97403-1224, telephone (541) 346-5120, before April 26, 2010. Repatriation of the human remains and associated funerary object to the Confederated Tribes of the Chehalis Reservation, Washington; Confederated Tribes of the Colville Reservation, Washington; Confederated Tribes of the Grand Ronde Community of Oregon; Confederated Tribes of the Umatilla Indian Reservation, Oregon; Confederated Tribes of the Warm Springs Reservation of Oregon; Confederated Tribes and Bands of the Yakama Nation, Washington; Kalispel Indian Community of the Kalispel Reservation, Washington; Nez Perce Tribe, Idaho; Shoalwater Bay Tribe of the Shoalwater Bay Indian Reservation, Washington; and/or Spokane Tribe of the Spokane Reservation, Washington may proceed after that date if no additional claimants come forward.

The Oregon State Museum of Anthropology is responsible for notifying the Confederated Tribes of the Chehalis Reservation, Washington; Confederated Tribes of the Colville Reservation, Washington; Confederated Tribes of the Grand Ronde Community of Oregon; Confederated Tribes of the Umatilla Indian Reservation, Oregon; Confederated Tribes of the Warm Springs Reservation of Oregon; Confederated Tribes and Bands of the Yakama Nation, Washington; Kalispel Indian Community of the Kalispel Reservation, Washington; Nez Perce Tribe, Idaho; Shoalwater Bay Tribe of the Shoalwater Bay Indian Reservation, Washington; and Spokane Tribe of the Spokane Reservation, Washington that this notice has been published.

Dated: March 3, 2010
Sherry Hutt,
Manager, National NAGPRA Program.

[FR Doc. 2010-6574 Filed 3-24-10; 8:45 am]

BILLING CODE 4312-50-S